DEPARTMENT OF THE INTERIOR

Geological Survey

[GX21GL00DT7ST00; OMB Control Number 1028-0087]

Agency Information Collection Activities; National Geological and Geophysical Data Preservation Program (NGGDPP) Grant Opportunity

AGENCY: U.S. Geological Survey, Interior.

ACTION: Notice of information collection; request for comment.

SUMMARY: In accordance with the Paperwork Reduction Act of 1995, we, the U.S. Geological Survey (USGS) are proposing to renew an information collection.

DATES: Interested persons are invited to submit comments on or before July 12, 2021.

ADDRESSES: Send your comments on this information collection request (ICR) by mail to U.S. Geological Survey, Information Collections Officer, 12201 Sunrise Valley Drive, MS 159, Reston, VA 20192; or by email to gs-info_collections@usgs.gov. Please reference OMB Control Number 1028-0087 in the subject line of your comments.

FOR FURTHER INFORMATION CONTACT: To request additional information about this ICR, contact Michaela Johnson by email at mrjohns@usgs.gov, or by telephone at (720) 250-8763.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the USGS; (2) will this information be processed and used in a timely manner; (3) is the estimate of burden accurate; (4) how might the USGS enhance the quality, utility, and clarity of the information to be collected; and (5) how might the USGS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: This notice concerns the collection of information that is sufficient and relevant to evaluate and select proposals for funding under the NGGDPP. We will accept proposals from state geological surveys requesting funds to inventory and assess the condition of current collections and data preservation needs. Financial assistance will be awarded annually on a competitive basis following the evaluation and ranking of state proposals by a review panel composed of representatives from the U.S. Department of the Interior, state geological surveys, and academic institutions. To submit a proposal, respondents must complete a project narrative and submit the application via www.grants.gov. Grant recipients must complete a final technical report at the end of the project period. Narrative and report guidance is available at https://datapreservation.usgs.gov, https://grants.gov, and https://grantsolutions.gov.

Annual data preservation priorities are provided in the Program Announcement as guidance for applicants to consider when submitting proposals. Since its inception in 2007, NGGDPP has awarded 46 states with $12 million, which, when matched or exceeded by the states, amounts to over $24 million invested in the rescue and preservation efforts. This notice concerns the collection of information that is sufficient and relevant to evaluate and select proposals for funding. We will protect information from respondents considered proprietary under the Freedom of Information Act (5 U.S.C. 552) and implementing regulations (43 CFR part 2), and under regulations at 30 CFR 250.197, “Data and information to be made available to the public or for limited inspection.” Responses are voluntary. No questions of a “sensitive” nature are asked. We intend to release the project abstracts and identify states for awarded/funded projects only.

Title of Collection: National Geological and Geophysical Data Preservation Program (NGGDPP).

OMB Control Number: 1028-0087.

Form Number: None.

Type of Review: Extension of a currently approved collection.

Respondents/Affected Public: All state geological surveys may apply for NGGDPP grants.

Total Estimated Number of Annual Respondents: 35.

Total Estimated Number of Annual Responses: 70 (35 applications, 35 final technical report submissions).

Estimated Completion Time per Response: Grant application time estimate is 80 hours; final technical report completion time estimate is 10 hours.

Total Estimated Number of Annual Burden Hours: 3,150.

Respondent's Obligation: Required to Obtain a Benefit.

Frequency of Collection: Annually.

Total Estimated Annual Non-hour Burden Cost: None.

An agency may not conduct or sponsor and a person is not required to respond to a collection of information unless it displays a currently valid OMB control number.

The authority for this action is the Paperwork Reduction Act of 1995 (44 U.S.C. 3501 et seq.).

Michaela Johnson,
NGGDPP Associate Program Coordinator.

[FR Doc. 2021-09909 Filed 5-10-21; 8:45 am]

BILLING CODE 4338-11-P